DEPARTMENT OF JUSTICE

Antitrust Division

Notice Pursuant to the National Cooperative Research and Production Act of 1993—National Spectrum Consortium

Notice is hereby given that, on January 21, 2020, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Rutgers, The State University of New Jersey, North Brunswick, NJ; NewEdge Signal Solutions LLC, Ayer, MA; Stratom, Inc., Boulder, CO; Whitney Strategic Services, LLC, New York, NY; Jacobs Technology, Tullahoma, TN; AECOM Management Services, Germantown, MD; University of Texas at San Antonio, San Antonio, TX; Wireless Research Center of North Carolina, Wake Forest, NC; Q Networks, LLC, Menlo Park, CA; Associated Universities, Inc., Washington, DC; IOMAXIS, LLC, Lorton, VA; ReFirm Labs, Inc., Fulton, MD; Ultra Communications, Inc., Vista, CA; Sprint Solutions, Inc., Overland Park, KS; Signal Point Systems, Inc., Kennesaw, GA; BlackHorse Solutions Incorporated, Herndon, VA; Bridge 12 Technologies, Framingham, MA; Power Fingerprinting Inc., Vienna, VA; Two Six Labs, LLC, Arlington, VA; Sentrana, Arlington, VA; Pi Radio Inc., Brooklyn, NY; George Mason University, Fairfax, VA; Deloitte Consulting, LLP, Arlington, VA; DTC Communications, Inc., Herndon, VA; Spectral Labs Incorporated, San Diego, CA; The University of Texas at Dallas, Richardson, TX; MW Ventures LLC, DBA Social Mobile, Miami, FL; Riverside Research Institute, New York, NY; KPMG LLP, McLean, VA; Omnispace, Tysons, VA; Florida Atlantic University, Boca Raton, FL; University of South Carolina, Columbia, SC; Parallel Wireless, Inc., Nashua, NH; Concurrent Technologies Corporation, Johnstown, PA; Aether Argus Inc., Atlanta, GA; Selex Galileo Inc., Arlington, VA; NEC Corporation of America, Irving, TX; AiRANACULUS, Chelmsford, MA; and The Kenjya-Trusant Group, LLC, Columbia, MD, have been added as parties to this venture.

Also, Stryke Industries, LLC, Fort Wayne, IN; Vision Engineering Solutions, Inc., Merritt Island, FL; Agile Communications, Inc., El Segundo, CA; and Avionics Test & Analysis Corporation, Niceville, FL, have withdrawn as parties to this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on October 23, 2019. A notice was published in the Federal Register pursuant to Section 6(b) of the Act on November 13, 2019 (84 FR 61657).

Suzanne Morris,
Chief, Premerger and Division Statistics Unit, Antitrust Division.

[FR Doc. 2020-03986 Filed 2-26-20; 8:45 am]

BILLING CODE 4410-11-P